DEPARTMENT OF THE INTERIOR

Bureau of Indian Affairs

[212A2100DD/AAKC001030/A0A501010.999900253G]

Land Acquisitions; Kiowa Indian Tribe of Oklahoma

AGENCY: Bureau of Indian Affairs, Interior.

ACTION: Notice.

SUMMARY: The Assistant Secretary—Indian Affairs made a final agency determination to acquire in trust 11.33 acres, more or less, of land in the City of Hobart, Kiowa County, Oklahoma, (Site) for the Kiowa Indian Tribe of Oklahoma (Tribe) for gaming and other purposes.

DATES: This final determination was made on December 11, 2020.

FOR FURTHER INFORMATION CONTACT: Ms. Paula L. Hart, Director, Office of Indian Gaming, Bureau of Indian Affairs, MS-3543 MIB, 1849 C Street NW, Washington, DC 20240, telephone (202) 219-4066, paula.hart@bia.gov.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On the date listed in the DATES section of this notice, the Assistant Secretary—Indian Affairs issued a decision to acquire the Site, consisting of 11.33 acres, more or less, of land in trust for the Tribe under the authority of the Indian Reorganization Act, 25 U.S.C. 5108. The Assistant Secretary—Indian Affairs determined that Tribe's request also meets the requirements of the Indian Gaming Regulatory Act's “Oklahoma exception,” 25 U.S.C. 2719(a)(2)(A)(i), to the general prohibition contained in 25 U.S.C. 2719(a) for gaming on lands acquired in trust after October 17, 1988.

The Assistant Secretary—Indian Affairs, on behalf of the Secretary of the Interior, will immediately acquire title to the Site in the name of the United States of America in trust for the Tribe upon fulfillment of Departmental requirements.

The 11.33 acres, more or less, are located in the City of Hobart, Kiowa County, Oklahoma, and are described as follows:

The surface and surface rights only in a tract of land located in the SE/4 of Section 02, Township 06 North, Range 18 West of the Indian Base and Meridian, Kiowa County, Oklahoma and more particularly described as follows: Commencing at the SE Corner of the said SE/4; thence N 00°06′58″ E along the East Line of the said SE/4 a distance of 1414.12 feet; thence N 89°53′02″ W perpendicular to the said East Line a distance of 66.30 feet to the East Right-of-Way Line of U.S. Highway No. 183, and the point of beginning; thence N 89°52′41″ W a distance of 1304.40 feet; thence N 00°06′58″ E a distance of 373.30 feet; thence S 89°52′41″ E a distance of 1320.00 feet to the said East Right-of-Way Line; thence S 01°06′35″ E along the said East Right-of-Way Line a distance of 307.98 feet; thence S 18°51′28″ W a distance of 69.05 feet to the point of beginning, consisting of 11.33 acres, more or less; surface and surface rights only. Basis of bearings: True Meridian.

Tara Sweeney,
Assistant Secretary—Indian Affairs.

[FR Doc. 2020-27699 Filed 12-15-20; 8:45 am]

BILLING CODE 4337-15-P